SECURITIES AND EXCHANGE COMMISSION

Submission for OMB Review; Comment Request

[SEC File No. 270-265; OMB Control No. 3235-0273]

Submission for OMB Review; Comment Request

Upon Written Request Copies Available From: Securities and Exchange Commission, Office of Filing and Information Services, Washington, DC 20549.

Notice is hereby given that pursuant to the Paperwork Reduction Act of 1995 (44 U.S.C. 3501 et seq.), the Securities and Exchange Commission (“Commission”) has submitted to the Office of Management and Budget a request for extension of the previously approved collection of information discussed below.

• Rule 17Ad-10 Prompt Posting of Certificate Detail to Master Securityholder Files; Maintenance of Accurate Securityholder Files and Control Book; and Retention of Certificate Detail

Rule 17Ad-10, 17 CFR 240.17Ad-10, under the Securities Exchange Act of 1934, requires a registered transfer agent to create and maintain minimum information on securityholder's ownership of an issue of securities for which it performs transfer agent functions, including the purchase, transfer and redemptions of securities. In addition, the rule also requires transfer agents that maintain securityholder records to keep certificate detail that has been cancelled from those records for a minimum of six years and to maintain and keep current an accurate record of the number of shares or principle dollar amount of debt securities that the issuer has authorized to be outstanding (a “control book”). These recordkeeping requirements assist in the creation and maintenance of accurate securityholder records, the ability to research errors, an ensure the transfer agent is aware of the number of securities that are properly authorized by the issuer, thereby avoiding over issuance.

Given that there are 1,093 transfer agents currently registered, the staff estimates that the average number of hours necessary for each transfer agent to comply with Rule 17Ad-10 is approximately 20 hours per year, totaling 21,860 hours industry-wide. The average cost is approximately $20 per hour, with the industry-wide cost estimated at approximately $437,200. However, the information required by Rule 17Ad-10 generally is already maintained by registered transfer agents. The amount of time devoted to compliance with Rule 17Ad-10 varies according to differences in business activity.

The retention period for the recordkeeping requirements under Rule 17Ad-10 is six years for certificate detail that has been cancelled and to maintain and keep current an accurate record of the number of shares or principle amount of debt securities that the issuer has authorized to be outstanding. The recordkeeing requirement under Rule 17Ad-10 is mandatory to ensure accurate securityholder records and to assist the Commission and other regulatory agencies with monitoring transfer agents and ensuring compliance with the rule. This rule does not involve the collection of confidential information. Persons should note that an agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, DC 20503; and (ii) Michael E. Bartell, Associate Executive Directive, Office of Information Technology, Securities and Exchange Commission, 450 Fifth Street, NW., Washington, DC 20549. Comments must be submitted to OMB within 30 days of this notice.

Dated: December 5, 2000.
Margaret H. McFarland,
Secretary.

[FR Doc. 00-31678 Filed 12-12-00; 8:45 am]

BILLING CODE 8010-01-M